DEPARTMENT OF AGRICULTURE

Animal and Plant Health Inspection Service

[Docket No. APHIS-2023-0047]

Addition of Bolivia to the List of Regions Affected With Highly Pathogenic Avian Influenza

AGENCY: Animal and Plant Health Inspection Service, USDA.

ACTION: Notice.

SUMMARY: We are advising the public that we added Bolivia to the list of regions that the Animal and Plant Health Inspection Service considers to be affected with highly pathogenic avian influenza (HPAI). This action follows our imposition of HPAI-related restrictions on the importation of avian commodities originating from or transiting Bolivia as a result of the confirmation of HPAI in that country.

DATES: Bolivia was added to the list of regions APHIS considers to be affected with HPAI, effective on February 2, 2023.

FOR FURTHER INFORMATION CONTACT: Dr. La'Toya Lane, Regionalization Evaluation Services, Strategy and Policy, VS, 4700 River Road, Riverdale, MD 20737; phone: (301) 550-1671; email: AskRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a list of restricted regions it considers to be affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (WOAH) ¹ or from other sources the Administrator determines to be reliable.

¹ The World Organization for Animal Health internationally follows a British English spelling of “organization” in its name; also, it was formerly the Office International des Epizooties, or OIE, but on May 28, 2022, the Organization announced that the acronym was changed from OIE to WOAH.

On January 31, 2023, the veterinary authorities of Bolivia reported to WOAH an HPAI occurrence in that country. On February 2, 2023, after confirming that HPAI occurred in commercial birds or poultry, APHIS added Bolivia to the list of regions where HPAI exists. On that same day, APHIS issued an import alert notifying stakeholders that APHIS imposed restrictions on the importation of poultry, commercial birds, ratites, avian hatching eggs, unprocessed avian products and byproducts, and certain fresh poultry commodities from Bolivia to mitigate risk of HPAI introduction into the United States.

With the publication of this notice, we are informing the public that we added Bolivia to the list of regions APHIS considers to be affected with HPAI of any subtype, effective February 2, 2023. This notice serves as an official record and public notification of this action.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 24th day of November 2023.
Michael Watson,
Acting Administrator, Animal and Plant Health Inspection Service.

[FR Doc. 2023-26228 Filed 11-28-23; 8:45 am]

BILLING CODE 3410-34-P